DEPARTMENT OF THE INTERIOR

Bureau of Land Management

[CA-670-08-1220-DO]

Notice of Intent To Prepare an Amendment to the California Desert Conservation Area Plan and Environmental Impact Statement for the Imperial Sand Dunes Recreation Area in Imperial County, CA

AGENCY: Bureau of Land Management, USDI.

ACTION: Notice of intent.

SUMMARY: In accordance with the Federal Land Policy and Management Act (FLPMA) and the National Environmental Policy Act of 1969 (NEPA), the Bureau of Land Management (BLM), California Desert District, El Centro Field Office, will prepare the Imperial Sand Dunes Recreation Area (ISDRA) Recreation Area Management Plan (RAMP). The management plan will amend the CDCA plan. The management plan is needed to replace the existing management plan (1987) which has become outdated as a result of the federal listing of and designation of critical habitat for Peirson's milk-vetch as a threatened species, designation of the North Algodones Dunes as wilderness, and substantial changes in visitor use. A 2006 Federal court order remanded a previous 2003 ISDRA RAMP to BLM for further consideration. The 2006 court order also vacated and remanded the previous U.S. Fish and Wildlife Service (FWS) critical habitat designation for the federally threatened Peirson's milk-vetch. On February 14, 2008, the FWS published a final rule revising critical habitat for the Peirson's milk-vetch.

DATES: The public is invited to submit comments on the scope of the plan amendment and EIS. Written comments must be postmarked by May 31, 2008. Three public meetings will be held in El Centro, California; San Diego, California; and Phoenix, Arizona. The time and place for these meetings will be published in the San Diego Union Tribune, Arizona Republic, Imperial Valley Press, and the Yuma Daily Sun at least 15 days prior to the meetings. BLM intends to complete the management plan under an accelerated schedule by fall 2009. This schedule will allow BLM to replace the temporary administrative closures of five areas in the ISDRA (Federal Register: November 16, 2000—Volume 65, Number 222) with a long term management plan prior to the beginning of the peak recreation use period in 2009-2010.

SUPPLEMENTARY INFORMATION: In 2000, the Center for Biological Diversity, and others (Center) filed for injunctive relief in U.S. District Court against BLM alleging that BLM was in violation of section 7 of the Endangered Species Act (ESA) by failing to formally consult with the FWS on the effects of adoption of the CDCA Plan, as amended, upon threatened and endangered species. In 2006 the court vacated and remanded BLM's 2005 Record of Decision (ROD) approving the 2003 ISDRA RAMP/Final EIS. The order and injunction: (1) Remanded the 2003 RAMP for further consideration by BLM; (2) vacated and remanded to the FWS portions of the Biological Opinion (BO) for the 2003 RAMP; and (3) required that BLM maintain the temporary vehicle closure of five areas to protect the Peirson's milk-vetch until such time as a new RAMP, final EIS, ROD, and BO are completed and filed with the court.

The ISDRA project area encompasses approximately 150,000 acres of public lands bounded to the west by the Old Coachella Canal, to the east by the Union Pacific Railroad, to the North by Mammoth Wash, and to the south by Interstate 8 and the California/Mexico border. The primary activities in the ISDRA include camping and off highway vehicle use. Issues addressed in the RAMP/EIS will include: wildlife and botany; cultural resources and paleontology; water resources; noise; land use; geology and soils; mineral resources; socioeconomics; hazardous materials and solid waste; public health; visual resources; and traffic and transportation.

The following Planning Criteria will be utilized during production of this document:

• The plan will be completed in compliance with FLPMA, NEPA, and all other relevant Federal law, Executive orders, and management policies of the BLM;

• The planning process will include an EIS that will comply with NEPA standards;

• The Plan will set forth a framework for managing recreational activities in order to maintain existing natural landscapes and to provide for the enjoyment and safety of the visiting public.

• Where existing planning decisions are still valid, those decisions may remain unchanged and be incorporated into the new RMP (or amendment);

• The plans will recognize valid existing rights; and

• Native American Tribal consultations will be conducted in accordance with policy and Tribal concerns will be given due consideration. The planning process will include the consideration of any impacts on Indian trust assets.

• Consultation with the SHPO will be conducted throughout the plan.

• Consultation with USFWS will be conducted throughout the plan.

The tentative project schedule is as follows:

—Draft plan amendment/draft EIS—February 2009.

—Proposed plan amendment/final EIS—July 2009.

—Record of Decision—October 2009.

Public participation will be especially important at several points during the analysis and planning process. The scoping process (40 CFR 1501.7) for this analysis will include identification of issues and viable alternatives as well as identification and notification of interested groups, individuals and agencies to determine level of participation and obtain additional information concerning issues to be addressed in the RAMP/EIS.

Comments, including names and addresses of respondents, will be available for public review at the El Centro Field Office during normal working hours (8 a.m. to 4:15 p.m. except holidays), and may be published as part of the EIS or other related documents. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety. Relevant documents will be available for inspection at the El Centro Field Office during normal working hours. Some documents will also be posted on the BLM internet Web site.

ADDRESSES: Comments should be sent to Erin Dreyfuss, Planning and Environmental Coordinator, El Centro Field Office, California Desert District, Bureau of Land Management, 1661 South 4th Street, El Centro, CA 92243.

For Further Information or to Submit Comments Contact: Erin Dreyfuss, Bureau of Land Management, 1661 South 4th Street, El Centro, CA 92243, (760) 337-4400.

Vicki L. Wood,
Field Manager, El Centro Field Office.

[FR Doc. E8-5368 Filed 3-17-08; 8:45 am]

BILLING CODE 4310-40-P